DEPARTMENT OF HEALTH AND HUMAN SERVICES

Centers for Disease Control and Prevention

[60Day-14-14AUI]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

WISEWOMAN National Program Evaluation—New—National Center for Chronic Disease Prevention and Health Promotion (NCCDPHP), Centers for Disease Control and Prevention (CDC).

Background and Brief Description

The CDC has supported the WISEWOMAN program (Well-Integrated Screening and Evaluation for Women Across the Nation) since 1995. The WISEWOMAN program is designed to serve low-income women ages 40-64 who have elevated risk factors for cardiovascular disease (CVD) and have no health insurance, or are underinsured for medical and preventive care services. Through the WISEWOMAN program, women have access to screening services for selected CVD risk factors such as elevated blood cholesterol, hypertension, and abnormal blood glucose levels; referrals to lifestyle programs; and referrals to medical care. WISEWOMAN participants must be co-enrolled in the CDC-sponsored National Breast and Cervical Cancer Early Detection Program (NBCCEDP).

The WISEWOMAN program is administered through cooperative agreements with state, territorial, or tribal health departments. At present, approximately two-thirds of program funding is provided by CDC with the other one-third supplied by the state, territory, or tribal organization. Each WISEWOMAN awardee submits to CDC an annual progress report that describes program objectives and activities, and semi-annual data reports (known as minimum data elements, or MDE) on the screening, assessment, and lifestyle program services offered to women who participate in the program (see WISEWOMAN Reporting System, OMB No. 0920-0612, exp. 12/31/2016). Participant-level MDE are de-identified prior to transmission to CDC.

In 2013, CDC released the fourth funding opportunity announcement (FOA) for the WISEWOMAN program (DP13-1302), which resulted in four-year cooperative agreements with 22 state, territorial, and tribal health departments, including 5 new and 17 continuing awardees from the previous FOA. Key program elements were retained (e.g., provision of screening services, promotion of healthy lifestyle behaviors, and linkage to community resources), but a number of changes were incorporated into the program at that time due to shifts in populations, systems, and community needs. The current FOA reflects increased emphasis on improving access to clinical systems of care and increased emphasis on leveraging existing resources in the community. Lifestyle interventions have also been reframed to include lifestyle programs (LSPs) and health coaching (HC) sessions, and MDE have been updated to capture information about risk reduction counseling and participants' readiness to change. The current cooperative agreement also stresses monitoring and performance evaluation as key program dimensions. Additionally, more information is needed to augment that from previous evaluation efforts.

CDC seeks to conduct a one-time, multi-component evaluation to assess the effectiveness of the program on individual-, organizational-, and community-level outcomes. The in-depth assessment is designed to complement the routine progress and MDE information already being collected from WISEWOMAN program awardees. The new data collection will focus on obtaining qualitative and quantitative information at the organizational and community levels about process and procedures implemented, and barriers, facilitators, and other contextual factors that affect program implementation and participant outcomes. Data collection activities will include a Program Survey with all WISEWOMAN awardee programs, administered in the second and fourth program years; a Network Survey of WISEWOMAN awardees and partner organizations, also conducted in the second and fourth program years; and a one-time Site Visit to a subset of awardees across the second to fourth program years. During site visits, semi-structured interviews will be conducted with WISEWOMAN staff members who serve in diverse roles and are positioned to provide a variety of perspectives on program implementation.

OMB approval is requested for three years. Participation is voluntary and there are no costs to respondents other than their time.

Estimated Annualized Burden Hours
Type of respondents | Form name | Number of respondents | Number of responses per respondent | Average burden per response (in hours) | Total burden (in hours)
WISEWOMAN Awardee Administrators | Program Survey | 15 | 1 | 70/60 | 18
| Network Survey | 15 | 1 | 50/60 | 13
| Site Visit Interview Guide | 6 | 1 | 75/60 | 8
Awardee Partners | Network Survey | 147 | 1 | 50/60 | 123
| Site Visit Interview Guide | 12 | 1 | 45/60 | 9
Healthy Behavior Support staff | Site Visit Interview Guide | 12 | 1 | 45/60 | 9
Clinical Providers | Site Visit Interview Guide | 12 | 1 | 45/60 | 9
Total |  |  |  |  | 189

Leroy A. Richardson,
Chief, Information Collection Review Office, Office of Scientific Integrity, Office of the Associate Director for Science, Office of the Director, Centers for Disease Control and Prevention.

[FR Doc. 2014-20101 Filed 8-22-14; 8:45 am]

BILLING CODE 4163-18-P